DEPARTMENT OF DEFENSE

GENERAL SERVICES ADMINISTRATION

NATIONAL AERONAUTICS AND SPACE ADMINISTRATION

48 CFR Parts 22, 25, and 52

[FAC 2001-09; FAR Case 2002-009; Item IV]

RIN 9000-AJ41

Federal Acquisition Regulation; Trade Agreements Thresholds

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to implement new dollar thresholds for application of the Trade Agreements Act (TAA) and North American Free Trade Agreement (NAFTA) as published by the U.S. Trade Representative in the Federal Register at 67 FR 14763, March 27, 2002.

DATES: Effective Date: September 30, 2002.

FOR FURTHER INFORMATION CONTACT: The FAR Secretariat, Room 4035, GS Building, Washington, DC, 20405, (202) 501-4755, for information pertaining to status or publication schedules. For clarification of content, contact Ms. Cecelia Davis, Procurement Analyst, at (202) 219-0202. Please cite FAC 2001-09, FAR case 2002-009.

SUPPLEMENTARY INFORMATION:

A. Background

This final rule amends FAR Subparts 22.15, 25.2, 25.4, 25.6, and 25.11 to implement new dollar thresholds for application of the Trade Agreements Act (TAA) and North American Free Trade Agreement (NAFTA), as published by the U.S. Trade Representative in the Federal Register at 67 FR 14763, March 27, 2002.

The rule also amends the clauses at 52.213-4, Terms and Conditions—Simplified Acquisitions (Other Than Commercial Items), and 52.222-19, Child Labor—Cooperation with Authorities and Remedies.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Parts 22, 25, and 52 in accordance with 5 U.S.C. 610. Interested parties must submit such comments separately and should cite 5 U.S.C. 601, et seq. (FAC 2001-09, FAR case 2002-009), in correspondence.

C. Paperwork Reduction Act

The Paperwork Reduction Act does apply; however, these changes to the FAR do not impose additional information collection requirements to the paperwork burden previously approved under OMB Control Numbers 9000-0023, 9000-0025, 9000-0130, and 9000-0141.

List of Subjects in 48 CFR Parts 22, 25, and 52

Government procurement.

Dated: August 21, 2002.
Al Matera,
Director, Acquisition Policy Division.

Therefore, DoD, GSA, and NASA amend 48 CFR parts 22, 25, and 52 as set forth below:

1. The authority citation for 48 CFR parts 22, 25, and 52 continues to read as follows:

Authority: 40 U.S.C. 486(c); 10 U.S.C. chapter 137; and 42 U.S.C. 2473(c).

PART 22—APPLICATION OF LABOR LAWS TO GOVERNMENT ACQUISITIONS 22.1503 [Amended]

2. Amend section 22.1503 in paragraph (b)(3) by removing “$54,372” and adding “$56,190” in its place; and by removing from paragraph (b)(4) “$177,000” and adding “$169,000” in its place.

PART 25—FOREIGN ACQUISITION

25.202 [Amended]

3. Amend section 25.202 in paragraph (c) by removing “$6,806,000” and “$7,068,419” and adding “$6,481,000” and “$7,304,733” in their place, respectively.

25.403 [Amended]

4. Amend section 25.403 in paragraph (b)(1) by removing “$177,000” and “$6,806,000” and adding “$169,000” and “$6,481,000” in their place, respectively.

25.405 [Amended]

5. Amend section 25.405 as follows:

a. In paragraph (a) by removing “$25,000 or less” and “$54,372” and adding “less than $25,000” and “$56,190” in their place, respectively;

b. In paragraph (b) by removing “$7,068,419” and adding “7,304,733” in its place; and

c. In paragraph (c) by removing “$54,372” and $7,068,419” and adding “$56,190” and “$7,304,733” in their place, respectively.

25.601 [Amended]

6. Amend section 25.601 as follows:

a. In the introductory text of paragraph (a) by removing “must” and adding “shall” in its place;

b. In paragraphs (a)(1) and (a)(3)(ii) by removing “$177,000” and adding “$169,000” in their places; and

c. In paragraph (a)(2) by removing “$6,806,000” and adding “$6,481,000” in its place.

7. Amend section 25.1101 as follows:

a. Revise paragraphs (b)(1)(i)(A), (b)(1)(ii), (b)(1)(iii), (b)(2)(ii), and (b)(2)(iii); and

b. In paragraphs (c)(1) and (d) by removing “$177,000” and adding “$169,000” in their place.

The revised text reads as follows:

25.1101 Acquisition of supplies.

* * * * *

(b)(1)(i) * * *

(A) The acquisition is for supplies, or for services involving the furnishing of supplies, for use within the United States, and the acquisition value is $25,000 or more, but is less than $169,000; and

* * * * *

(ii) If the acquisition value is $25,000 or more but is less than $50,000, use the clause with its Alternate I.

(iii) If the acquisition value is $50,000 or more but is less than $56,190, use the clause with its Alternate II.

(2) * * *

(ii) If the acquisition value is $25,000 or more but is less than $50,000, use the provision with its Alternate I.

(iii) If the acquisition value is $50,000 or more but is less than $56,190, use the provision with its Alternate II.

* * * * *

25.1102 [Amended]

8. Amend section 25.1102 as follows:

a. In the introductory text of paragraphs (a) and (c), and paragraphs (c)(3) and (d)(3) by removing “$6,806,000” and adding “$6,481,000” in their place; and

b. In paragraphs (c)(3) and (d)(3) by removing “$7,068,419” and adding “$7,304,733” in their place.

25.1103 [Amended]

9. Amend section 25.1103 in paragraphs (c)(1)(i) and (c)(1)(ii)(B) by removing “$177,000” and adding “$169,000” in their place.

PART 52—SOLICITATION PROVISIONS AND CONTRACT CLAUSES

10. Amend section 52.213-4 as follows:

a. Revise the date of the clause; and

b. Remove paragraph (b)(1)(vi) and redesignate paragraphs (b)(1)(i) through (b)(1)(v) as (b)(1)(ii) through (b)(1)(vi), respectively; and add a newly designated paragraph (b)(1)(i) to read as follows:

52.213-4 Terms and Conditions—Simplified Acquisitions (Other Than Commercial Items).

* * * * *

Terms and Conditions—Simplified Acquisitions (Other Than Commercial Items) (Sept 2002)

* * * * *

(b) * * *

(1) * * *

(i) 52.222-19, Child Labor—Cooperation with Authorities and Remedies (Sept 2002) (E.O. 13126). (Applies to contracts for supplies exceeding the micro-purchase threshold.)

* * * * *

52.222-19 [Amended]

11. Amend section 52.222-19 by revising the date of the clause to read (SEPT 2002); in paragraph (a)(3) by removing “$54,372” and adding “$56,190” in its place; and in paragraph (a)(4) by removing “$177,000” and adding “$169,000” in its place.

[FR Doc. 02-21870 Filed 8-29-02; 8:45 am]

BILLING CODE 6820-EP-P